DEPARTMENT OF HEALTH OF HUMAN SERVICES

Request for Information—Pandemic and All-Hazards Preparedness and Advancing Innovation Act Section 209; Extension of Comment Period

AGENCY: Office of Infectious Disease and HIV/AIDS Policy, Office of the Assistant Secretary for Health, Office of the Secretary, Department of Health and Human Services.

ACTION: Notice; extension of comment period.

SUMMARY: The Office of the Assistant Secretary for Health published a document in the Federal Register of March 23, 2020 requesting public comment related to Section 209 of the Pandemic and All-Hazards Preparedness and Advancing Innovation Act. Due to requests of an extension to the public comment period, this document is announcing an extension.

DATES: To be assured consideration, comments must be received at the address provided below no later than midnight Eastern Standard Time (EST) on June 21, 2020.

FOR FURTHER INFORMATION CONTACT: Mr. James Berger, (202) 795-7608; ACBTSA@hhs.gov.

Dated: April 3, 2020.
James J. Berger,
Senior Advisor for Blood and Tissue Policy, Office of the Assistant Secretary for Health.

[FR Doc. 2020-07442 Filed 4-8-20; 8:45 am]

BILLING CODE 4150-28-P